NUCLEAR REGULATORY COMMISSION

[Docket No. 50-228; NRC-2023-0125]

Aerotest Operations, Inc.; Aerotest Radiography and Research Reactor

AGENCY: Nuclear Regulatory Commission.

ACTION: Notice of decommissioning plan; opportunity to provide comments.

SUMMARY: The U.S. Nuclear Regulatory Commission (NRC) has received a decommissioning plan from Aerotest Operations, Inc. for the Aerotest Radiography and Research Reactor, located in Contra Costa County, California. The license authorizes the possession only of the reactor and fuel, but not use or operation of the permanently shutdown facility. Aerotest Operations, Inc. is requesting NRC review and approval of a proposed decommissioning plan. If approved, the NRC would amend the Aerotest Radiography and Research Reactor license to reference the NRC approved decommissioning plan. Additionally, the NRC would add a license condition requiring the licensee to submit more detailed information on remaining dismantlement and remediation activities, as well as the final status survey plan, for NRC review and approval prior to conducting final status surveys for license termination.

DATES: Submit comments by August 28, 2023. Comments received after this date will be considered if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2023-0125. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Jack Parrott, Office of Nuclear Material Safety and Safeguards, U.S. Nuclear Regulatory Commission, Washington, DC 20555-0001, telephone: 301-415-6634; email: Jack.Parrott@nrc.gov.

SUPPLEMENTARY INFORMATION:

I. Obtaining Information and Submitting Comments

A. Obtaining Information

Please refer to Docket ID NRC-2023-0125 when contacting the NRC about the availability of information for this action. You may obtain publicly available information related to this action by any of the following methods:

• Federal Rulemaking Website: Go to https://www.regulations.gov and search for Docket ID NRC-2023-0125.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2023-0125 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Introduction

The NRC has received, by letter dated July 20, 2021 (ADAMS Accession No. ML21230A304), as supplemented by letter dated January 20, 2022 (ADAMS Accession No. ML22025A200), a request to review and approve the proposed decommissioning plan submitted by Aerotest Operations, Inc. for the Aerotest Radiography and Research Reactor, located in Contra Costa County, California. NRC License No. R-98 authorizes the possession only of the reactor and fuel, but not use or operation of the permanently shutdown facility. If approved, the NRC would amend the Aerotest Radiography and Research Reactor license to reference the NRC approved decommissioning plan and add a license condition. The license condition would require the licensee to submit more detailed information about remaining dismantlement and remediation activities, as well as the final status survey plan, for NRC review and approval prior to conducting final status surveys for license termination.

Aerotest Operations, Inc. submitted its proposed decommissioning plan pursuant to paragraph (b)(1) of section 50.82, “Termination of license,” of title 10 of the Code of Federal Regulations (10 CFR), which requires Aerotest Operations, Inc. to apply for license termination within 2 years of permanently ceasing operations, and also requires that each application for termination of a license be accompanied or preceded by a proposed decommissioning plan. An NRC administrative completeness review found the application acceptable to begin a technical review (ADAMS Accession No. ML22098A092).

If the NRC approves the decommissioning plan, the NRC will amend NRC License No. R-98. However, prior to doing so, the NRC will need to make the findings required by the Atomic Energy Act of 1954, as amended, and the NRC's regulations. The NRC's findings will be documented in a safety evaluation report. The proposed action appears to qualify for a categorical exclusion under 10 CFR 51.22; therefore a separate environmental assessment will not be prepared in relation to this action.

III. Notice and Solicitation of Comments

In accordance with section 10 CFR 20.1405, the Commission is providing notice and soliciting comments from local and State governments in the vicinity of the site and any Federally recognized Indian tribe that could be affected by the decommissioning activities for the Aerotest Radiography and Research Reactor. This notice and solicitation of comments is published pursuant to 10 CFR 20.1405, which provides for publication in the Federal Register and in a forum, such as local newspapers, letters to State or local organizations, or other appropriate forum, that is readily accessible to individuals in the vicinity of the site. Comments should be provided within 30 days of the date of this notice.

Further, in accordance with 10 CFR 50.82(b)(5), notice is also provided to interested persons of the Commission's intent to approve the decommissioning plan by amendment, subject to such conditions and limitations as it deems appropriate and necessary, if the plan demonstrates that decommissioning of the Aerotest Radiography and Research Reactor will be performed in accordance with the applicable NRC regulations, and will not be inimical to the common defense and security or to the health and safety of the public.

Dated: July 24, 2023.
For the Nuclear Regulatory Commission.
Shaun M. Anderson,
Chief, Reactor Decommissioning Branch, Division of Decommissioning, Uranium Recovery, and Waste Programs, Office of Nuclear Material Safety and Safeguards.

[FR Doc. 2023-15978 Filed 7-27-23; 8:45 am]

BILLING CODE 7590-01-P